OFFICE OF SCIENCE AND TECHNOLOGY POLICY

Request for Information; National Nanotechnology Initiative Environmental, Health, and Safety Research Strategy; Extension of Comment Period

AGENCY: Office of Science and Technology Policy (OSTP).

ACTION: Notice of request for information; extension of comment period.

SUMMARY: The National Nanotechnology Coordination Office (NNCO), on behalf of the Nanoscale Science, Engineering, and Technology (NSET) Subcommittee of the Committee on Technology, National Science and Technology Council (NSTC), is extending the comment period for the notice announcing a request for information and comments that appeared in the Federal Register of April 5, 2023. In that notice, NNCO requested information and comments on updating the National Nanotechnology Initiative (NNI) Environmental, Health, and Safety (EHS) Research Strategy. The NNCO is taking this action to allow interested persons additional time to submit comments. The NNI's current strategy was prepared in 2011, with substantial public engagement. Federal agencies participating in NSET's Nanotechnology Environmental and Health Implications (NEHI) Working Group have begun to review the 2011 NNI EHS Research Strategy and request input to help inform a revised and updated EHS strategy.

DATES: The NNCO is extending the comment period on the notice published April 5, 2023 (88 FR 20194). Interested persons and organizations are invited to submit comments on or before 5 p.m. ET June 16, 2023.

ADDRESSES: Comments must be submitted via the Federal eRulemaking Portal at regulations.gov. However, if you require an accommodation or cannot otherwise submit your comments via regulations.gov, please contact the program contact person listed under FOR FURTHER INFORMATION CONTACT. OSTP will not accept comments by fax or by email, or comments submitted after the comment period closes. To ensure that OSTP does not receive duplicate copies, please submit your comments only once. Additionally, please include the Docket ID at the top of your comments.

Federal eRulemaking Portal: Go to www.regulations.gov to submit your comments electronically. Information on how to use Regulations.gov, including instructions for accessing agency documents, submitting comments, and viewing the docket, is available on the site under “FAQ” (https://www.regulations.gov/faq).

Privacy Note: OSTP's policy is to make all comments received from members of the public available for public viewing in their entirety on the Federal eRulemaking Portal at www.regulations.gov. Therefore, commenters should be careful to include in their comments only information that they wish to make publicly available. OSTP requests that no proprietary information, copyrighted information, or personally identifiable information be submitted in response to this RFI.

Instructions: Response to this RFI is voluntary. Respondents need not reply to all questions listed. For all submissions, clearly indicate which questions are being answered. Multiple submissions from an individual, group, or institution will be considered as supplements to the original response and not as new comments. Submissions should include the name(s) of the person(s) or organization(s) filing the comment.

Any information obtained from this RFI is intended to be used by the Government on a non-attribution basis for planning and strategy development. OSTP will not respond to individual submissions. A response to this RFI will not be viewed as a binding commitment to develop or pursue the project or ideas discussed. This RFI is not accepting applications for financial assistance or financial incentives. Please note that the United States Government will not pay for response preparation, or for the use of any information contained in a response.

FOR FURTHER INFORMATION CONTACT: Rhema Bjorkland at info@nnco.nano.gov or 202-517-1050. Individuals who use telecommunication devices for the deaf and hard of hearing (TDD) may call the Federal Relay Service (FRS) at 1-800-877-8339, 24 hours a day, every day of the year, including holidays.

SUPPLEMENTARY INFORMATION: Background Information: NEHI, on behalf of the NNI, is engaging the community early in the process to allow the public and key stakeholders to inform revisions to the NNI EHS research strategy. In preparing comments, the public is invited to view the core research areas and their associated needs as set out in the NNI 2011 Environmental, Health, and Safety (EHS) Research Strategy (https://www.nano.gov/2011EHSStrategy). The 2014 Progress Review on the Coordinated Implementation of the National Nanotechnology Initiative 2011 Environmental, Health, and Safety Research Strategy (https://www.nano.gov/2014-EHS-Progress-Review) and 2017 Highlights of Recent Research on the Environmental, Health, and Safety Implications of Engineered Nanomaterials (https://www.nano.gov/Highlights-Federal-NanoEHS-Report) provide additional information on the progress made in the core research areas.

Information Requested: Pursuant to 42 U.S.C. 6617, OSTP is soliciting public input through an RFI to obtain feedback from a wide variety of stakeholders, including individuals, industry, academia, research laboratories, nonprofits, and think tanks. OSTP is interested in public input to inform an updated nanotechnology EHS research strategy, specifically a strategy that focuses on the use of science-based risk analysis and risk management to protect public health and the environment while also fostering the technological advancements that benefit society. OSTP seeks responses to any or all of the following questions:

1. What are the research accomplishments in the following six core research areas identified in the 2011 NNI EHS Strategy? The six core research areas are (1) Nanomaterial Measurement Infrastructure, (2) Human Exposure Assessment, (3) Human Health, (4) Environment, (5) Risk Assessment and Risk Management Methods, and (6) Informatics and Modeling.

2. What research gaps remain in addressing the six NNI EHS core research areas listed in question 1?

3. The ethical, legal, and societal implications (ELSI) of nanotechnology are considered across the core research areas of the 2011 strategy. What additional ways could ELSI be more fully integrated throughout a refreshed NNI EHS research strategy?

4. What broad themes should the revised strategy adopt to integrate and connect the six research areas?

5. How should the updated NNI EHS research strategy reflect the evolution of nanotechnology beyond engineered nanomaterials to complex systems, structures, and devices?

6. The 2011 strategy focused on engineered nanomaterials and did not include incidental nanoscale materials such as nanoplastics and certain nanoscale particulate emissions such as those from 3D printing. If the updated strategy is revised to include some non-engineered or incidental nanomaterials, describe how to scope the strategy in a way that complements rather than being redundant with existing health and environmental research (e.g., by excluding the large body of existing research on air pollution, which can include nanoscale particles).

Dated: May 18, 2023.
Stacy Murphy,
Deputy Chief Operations Officer/Security Officer.

[FR Doc. 2023-10958 Filed 5-22-23; 8:45 am]

BILLING CODE 3270-F1-P